DEPARTMENT OF LABOR

Employment and Training Administration

Notice of Availability of Funds and Solicitation for Grant Applications (SGA) To Fund Demonstration Projects Targeting Dislocated Workers

Announcement type: New, Notice of Solicitation for Grant Applications.

Funding Opportunity Number: SGA/DFA PY-07-10.

Catalog of Federal Assistance Number: 17.269.

Key Dates: The closing date for receipt of applications under this announcement is June 13, 2008. Applications must be received at the address below no later than 4:30 p.m. (Eastern Time). Application and submission information is explained in detail in Part IV of this SGA.

SUMMARY: The U.S. Department of Labor (DOL), Employment and Training Administration (ETA) announces the availability of approximately $20 million to fund grants to State Workforce Agencies (SWAs) for demonstration projects targeting Workforce Investment Act (WIA) dislocated workers. This solicitation provides SWAs with the option to choose from four categories under which applicants can submit a single grant application. Please note that two options exist under category one and two options exist under category three. If the applicant chooses to apply under categories one or three, the applicant must indicate which option the proposal addresses. Applicants may only submit a grant application under one category and only one application per SWA will be accepted. Applicants must indicate in the abstract of their proposal the category under which they are applying.

Category 1—Entrepreneurship Opportunities for Dislocated Workers (two options).

Category 2—Getting Ahead of the Curve: Raising Educational/Skill Levels of Workers in Declining Industries.

Category 3—Innovative Adult Learning Models for Dislocated Workers (two options).

Category 4—Preventing Dislocations of TANF Recipients Moving Into Entry Level Jobs Subject to Economic Churn.

Additional background information is provided under Part I.

ADDRESSES: Mailed applications must be addressed to the U.S. Department of Labor, Employment and Training Administration, Division of Federal Assistance, Attention: BJai Johnson, Reference SGA/DFA PY-07-10, 200 Constitution Avenue, NW., Room N-4716, Washington, DC 20210. Facsimile applications will not be accepted. Information about applying online can be found in Part V.C. of this document. Applicants are advised that mail delivery in the Washington, DC, area may be delayed due to mail decontamination procedures. Hand delivered proposals will be received at the above address.

SUPPLEMENTARY INFORMATION: This solicitation consists of eight parts:

Part I provides background information for each category.

Part II describes award information.

Part III describes eligibility information.

Part IV describes the application and submission process.

Part V describes the applications review process.

Part VI contains award administration information.

Part VII contains DOL agency contact information.

Part VIII lists additional resources of interest to applicants.

Part I. Background Information

This section provides background information for each of the four categories for grant applications. In some cases the background information is applicable to more than one category and is identified as such.

Background Information for Category 1—Entrepreneurship Opportunities for Dislocated Workers: Applicants may submit an application under only one of the following options: Option A—Project GATE (Growing America Through Entrepreneurship) for Dislocated Workers in Rural Areas or Option B—Project GATE for Dislocated Workers Fifty Years and Older. This background information is relevant to both options.

Although many Americans have neither the skills nor the desire to be self-employed (more than 90 percent of employed Americans work for other people in “wage and salary” jobs) some Americans do want to be self-employed. Some have a passion for a particular business idea, while others want to be their own bosses, have no access to wage and salary jobs in which they can use their skills, or desire the flexibility of self-employment. These people often are willing to work hard, and have specific skills, interests, and talents they can use in a business.

Many aspiring entrepreneurs' lack of business knowledge and access to credit poses significant barriers to self-employment. This lack of knowledge may encompass marketing, finance, regulations, how to develop a business plan, or other aspects of developing and running a business. Disadvantaged populations in particular are less likely to have access to the information sources that would make such knowledge and skills available to them. Many people may need loans to start their businesses but have little collateral and poor or no credit histories. Moreover, commercial banks frequently are reluctant to make loans to small, risky ventures.

In providing assistance designed to surmount these obstacles to self-employment, Project GATE aims to promote both workforce and economic development. In improving the likelihood of being successful at self-employment, the project sought to increase employment, earnings, and the self-sufficiency of GATE participants. Even if not successful at self-employment, the program could have improved success at wage and salary employment by providing GATE participants with contacts, business skills, or just the knowledge that entrepreneurship is not for them. By promoting small businesses and the jobs they create, Project GATE also aimed to promote economic development in some low-income areas.

1. Project GATE Demonstration

This initiative builds on the prior Project GATE Demonstration funded by ETA which began in early fall 2003 and was implemented in three states-Pennsylvania, Minnesota, and Maine. Participants in Project GATE were offered assessments, classroom training and one-on-one business counseling in developing their businesses and applying for a Small Business Administration (SBA) Microloan or other source of business finance. Nonprofit Community-Based Organizations and the SBA's Small Business Development Centers provided the classroom training and business counseling.

One-Stop Career Centers were the gateways to the program. These centers conducted outreach for Project GATE and hosted the program's orientation session. Project GATE added a new service to the One-Stop Career Centers' arsenal of employment services—helping people become self-employed. In addition, Project GATE attracted new and diverse customers to the participating One-Stop Career Centers.

The Project GATE demonstration also provided technical assistance to grantees to implement the project. In addition, the Project GATE demonstration was also evaluated to determine whether the project works and whether it could be replicated on a broader scale. Below is a summary of the findings from the first 18 months of the Project GATE demonstration, which have led ETA to announce a new round of Project GATE grants.

Self-employment service programs can be offered at One-Stop Career Centers. During the demonstration, Project GATE was implemented successfully across a wide variety of sites. While One-Stop Career Centers are not traditionally known as places to go for self-employment services, Project GATE was able, with some marketing, to draw entrepreneurs and prospective entrepreneurs into the centers. As long as local training and business counseling providers with a reputation for providing good quality services are willing to participate in the program, Project GATE, or a similar program, could be offered as an additional service at One-Stop Career Centers.

The Project GATE service model appears to have several advantages over the existing self-employment services available within participating communities. In addition to receiving more hours of self-employment services, Project GATE participants reported higher levels of satisfaction with the services received than did control group members. Offering a one-on-one assessment with a trained business counselor and a choice of quality local service providers appears to have added value to the existing service network within the local communities.

GATE participants started businesses at a higher rate than control group members. Over the 18-month follow up period, participation in Project GATE led to an increase in business ownership. While the increase in business ownership was statistically significant, the magnitude of the impact was relatively modest-six percentage points. It is important to note, however, that an analysis of the impact of Project GATE on the unemployed found more substantial program impacts for this subgroup.

Project GATE had larger impacts on business ownership among Unemployment Insurance (UI) recipients. Over the entire follow-up period, the impact of Project GATE on business ownership among UI recipients was nine percentage points (statistically significant), compared with no impact on those who did not receive UI. Project GATE may have had a larger impact on those who were receiving UI benefits when they applied because they had fewer alternative opportunities in the regular labor market. Moreover, not having a wage and salary job provided them with more time to work on their businesses, while the UI benefits provided a regular income.

Project GATE had much larger impacts on business ownership among recent UI recipients in Minnesota, where job search requirements were waived for GATE program group members. For the recent UI recipients in Minnesota, the impact of Project GATE on business ownership started at +12 percentage points in the first quarter of the follow-up period and increased to +15 percentage points in the last quarter, all statistically significant. One reason for larger impacts among recent UI recipients in Minnesota may be attributable to the fact that the job search requirements that accompany the receipt of UI were waived for GATE participants which allowed them to continue receiving benefits while concentrating on their businesses, rather than looking for a wage and salary job

Finally, Project GATE is a successful entrepreneurial training model in rural areas. Rural areas in the demonstration were especially innovative in providing access to training and business counseling to entrepreneurs. For more information on Project GATE, please visit the following weblink: http://wdr.doleta.gov/research/keyword.cfm?fuseaction=dsp_resultDetails&pub_id=2337&mp=y.

2. Necessary Project Components

The new Project GATE grantees would follow the service delivery strategy employed by the successful Project GATE Demonstration. Intake for the grants would involve three steps: (1) Registration, (2) orientation, and (3) completion of an application package. These are described in detail below.

• Registration. Persons interested in applying for training under the grant must first signal their interest in the program by registration. This would be done at a participating One-Stop Career Center, at the GATE Web site, by mailing a postcard, or by calling a toll-free number. Registered individuals will be notified by mail of the times and locations of the GATE orientations in their areas. The Project GATE Web site will be reactivated for the purposes of the grants. Other outreach materials developed for the GATE demonstration will be adapted for use under the grants. Registrants will be asked to contact a One-Stop Career Center to select which orientation they plan to attend.

• Orientation. The GATE orientation has four main objectives. First, it aims to provide the attendees with a balanced picture of both the positive and negative aspects of self-employment. Second, the orientation describes GATE services so that applicants have realistic expectations about services provided and do not expect to become eligible for grants or loans directly from GATE. Third, the orientation describes the services provided by the One-Stop Career Center. Finally, One-Stop Career Center staff members describe the GATE application process and offer each attendee an application package.

• Application Package. Orientation attendees will be given an application package. The application collects information for the evaluation. It also is used to check on eligibility for Project GATE and to provide the assessment counselor (see below) with some information about the participant's needs. The applicant will be required to send the application package to the evaluation contractor. Forms that are less than 90 percent complete will be returned to the applicant for completion.

3. Necessary Project Services

Each Project GATE grantee must offer at minimum three basic services: (1) An assessment, (2) classroom training, and (3) one-on-one business counseling. All Project GATE grant participants must receive an assessment. After the assessment, participants may receive classroom training only, business counseling only, or both.

• Assessment. Soon after being accepted into the project, each participant should meet with a GATE assessment counselor. The GATE counselor is generally a member of a local economic development entity such as a chamber of commerce or small business development center. The main objective of the assessment is to recommend the services and providers that best meet the participant's needs. On the basis of this review, the counselor recommends the appropriate set of services to the participant and refers them to a training or business counseling provider.

• Training. The training courses offered will vary by provider. Many providers offer multiple training courses. At minimum, service providers must offer basic courses for those just starting businesses that focus on developing a business plan. Topics covered in these basic courses may also include: Market research, marketing, pricing, financing, cash flow, accounting, hiring, permits and licenses, and legal issues. Other courses should target participants who already have developed business plans and may have started their businesses, but need assistance in growing the business. These more advanced courses may cover topics such as growth strategies, business planning, and customer relations. In addition to training courses, some providers also may offer seminars on specific business types (e.g., child-care businesses), e-commerce, or accounting software packages.

• Business Counseling. All Project GATE grant participants may meet one-on-one with a business counselor to receive assistance with their specific businesses or business ideas. The amount of business counseling received should be tailored to the needs of the participants. Suggested topics to be covered in business counseling sessions may include refinement of the business idea, business plan writing and development, marketing, budget and cash flow projections, and availability of financing. For those in need of financing for their businesses, the counselors may provide assistance in applying for loans from the SBA or other funding sources. Individual business counseling is an important and effective strategy for assisting entrepreneurs with their business needs. Existing small business owners who do not need classroom training often use one-on-one business counseling to work through specific business issues. Individuals at the business start-up phase often use technical assistance to help work through specific issues after completing classroom training. Not only do these sessions provide practical advice on business-related issues, but they also allow counselors the opportunity to provide emotional support and encouragement when participants face difficulties in the business development process.

Background Information for Category 2—Getting Ahead of the Curve: Raising Educational/Skill Levels of Workers in Declining Industries: Today's global economy is marked by tremendous advancements in communication, travel, and trade—allowing individuals instant access to commerce from almost anywhere in the world. At the same time, American businesses find themselves competing not only with companies across the street, but also with companies around the globe. As a result, many companies are streamlining or reinventing their operations. Long-term employees in these companies find themselves at a disadvantage because of outdated skills. Because of their skill deficit, they face dislocation not only in the face of plant closures or relocations but in the case of reinvention, where companies and industries must modify their core competency and skill requirements to remain competitive in the global marketplace.

The roots of the workforce investment system were designed to meet the needs of a different economy than we are in today. The system was designed for an economy characterized by interchangeable labor, cyclical layoffs, and employers that, for the most part, required a workforce with no more than a high school diploma from workers. In the 21st century globally competitive economy, it is becoming increasingly important that the workforce investment system act as a strategic partner in regional economic and talent development. A critical part of talent development that helps create a competitive advantage for a region is to develop innovative strategies to assist businesses in layoff aversion by raising the education and skill levels of workers in declining or at-risk industries, or industries that are transforming. This requires strategic partnerships with employers, education and training providers at all levels, including apprenticeship providers, economic development entities, local, regional, and state governments, the philanthropic community, faith-based and community organizations, research institutions, and other civic leaders with a stake in economic growth and talent development.

1. Getting Ahead of the Curve Demonstration

Under this category, the strategies employed to upgrade workers skills should be designed to (a) meet employers' critical skill needs, enhancing employers' ability to avoid layoffs; and/or (b) provide workers with updated transferable skills to enhance their ability to transition to other occupations and/or careers. Solutions should examine the concept of career lattices based on competencies. The objective is to enhance the value of workers to their current employer and to raise their education and skill levels to position them to quickly move into new jobs, either within or outside their current employer/industry if their current jobs are eliminated.

2. Necessary Project Components

Applications under this category must consist of the following two components: (1) Development of an “early warning system” for tracking declining industries/businesses. The early warning system can involve coordination and evaluation of current activities as well as creation of new activities. (2) Engagement with businesses in declining industries, such as traditional manufacturing, or transforming industries that require new skill sets, such as information technology and advanced manufacturing, to collaboratively develop strategies to raise the education and skill levels of the current workforce. This may be focused on either lay-off aversion or to position workers to advance in their current careers, while increasing worker productivity, but it also supports their potential need to transition to other occupations if employment in the industry or business is no longer viable. It is ETA's expectation that workers will receive training as part of grant activities.

Early Warning System and engagement with businesses in at-risk industries to provide training: In 1988, Congress passed the Worker Adjustment and Retraining Notification (WARN) Act to provide workers with sufficient time to prepare for the transition between the jobs they currently hold and new jobs. The WARN Act requires employers to provide written notice at least 60 calendar days in advance of covered plant closings and mass layoffs. Once receiving a WARN notice, state and local workforce agencies engage the employer and its employees in rapid response activities. Additionally, many states have created their own regulations around advanced notices that place further restrictions on employers. These models, while valuable, represent a more reactive approach to assisting both employers and workers and are also limited in their coverage. In today's global economy, rapid response and other actions targeting individuals at risk for dislocation need to be proactive rather than reactive. In fact, proactive strategies targeting businesses at-risk for closure or realignment and employees at-risk for dislocation are a vital part of retaining competitive advantage in a regional economic and talent development framework.

Some state and local workforce agencies are working with employers and other state agencies to create “early warning” systems. These systems track companies and industries that are likely to experience closures, move to another location/state, experience layoffs, or face industry transformation that requires a substantive change in skill requirements. This demonstration intends to support the development and implementation of replicable models for early warning systems. Using the early warning systems, the workforce investment system and its partners should work together to provide workers at risk for layoff with training to upgrade their skills.

3. Early Warning System Requirements

Early warning enables the workforce investment system and its economic development, education, and other partners to strategically deploy regional assets to support industry transformation and up-skill or re-skill the workforce to ensure successful transitions into new occupations and industries. Early warning systems will vary based on the needs in each state and region, however they should include at a minimum:

• Strong collaboration with state Labor Market Information departments to understand how and where the state and regional economy is transitioning and how to identify declining industries and companies.

• Partnerships between the workforce investment system at the state and local levels, governmental and non-governmental economic development agencies at the state and local levels, educational entities at all levels, businesses, industry associations, and outplacement firms. Additionally, optional partners include philanthropic organizations, faith and community-based organizations, governmental and non-governmental education agencies, and labor management organizations if applicable.

• Aligning the resources and activities of different federal, state, and local governments. For example rapid response, Regional Innovation Grants, Trade Act funding (including the Trade Adjustment Assistance for Firms program operated under the Department of Commerce's Economic Development Administration (EDA)), state and local WIA dislocated worker funds, federal, state, and local economic development resources (such as EDA grants), and any other federal and state resources that align with the goals of serving dislocated workers.

• Leveraging resources from governmental and non-governmental partners.

• Outreach and education strategies to business and industry about benefits of collaboration.

• Creation of a replication model to be disseminated to other workforce agencies.

• A plan for sustainability beyond the life of the grant.

It is expected that by the end of year one of the grant, the grantee will have established an early warning system and that the grantee will constantly assess and evaluate the effectiveness of their model and make changes as needed.

4. Business Engagement Strategies and Training Requirement

A regional economy's competitiveness depends on the skills of its workers. According to the Bureau of Labor Statistics, Americans now average 14 jobs between the ages of 18 and 34—or approximately one new job every 14 months. This statistic demonstrates the need for a flexible workforce that receives competency-based training as part of a lifelong learning strategy. Workers with outdated skills in declining industries represent untapped potential that can be difficult to reach. The purpose of this component is to support the development of partnerships and business engagement strategies that ultimately result in these workers receiving competency-based training to allow them to quickly adapt to changes in their current occupation or industry or move to new industries should their current environment no longer present viable career options. ETA's goal is not only to enhance the value of workers in their current jobs but also to position them to move into new jobs quickly if their current jobs are eliminated.

Declining industries are not defined in this solicitation but ETA intends them to be those traditional industries that have been in decline for the past decade, such as traditional manufacturing, textiles, furniture production, tobacco, etc. Transforming industries are also not strictly defined but are intended to be those facing significant changes in the skill requirements of their occupations and career ladders due to shifts in the industry requirements, such as information technology and advanced manufacturing. Applicants who make a persuasive case that a non-traditional industry is in decline or transforming in their area will also be considered.

Business engagement strategies will vary based on the needs of the state and applicants are encouraged to be innovative in their proposed activities. Applicants' business engagement strategies and subsequent training strategies may focus on outreach to affected businesses and industries, lay-off aversion, increasing worker productivity, and/or positioning workers to advance in their current careers. However, training must also support workers' potential need to transition to other occupations if the industry or business is no longer viable.

ETA intends grants to include a planning period of up to one year to identify declining, at-risk, or transforming industries, build business and education partnerships, and understand training strategies that will respond to the needs of employers and workers in the context of the regional economy. Years two and three are intended to serve as the implementation period, when the workforce investment system will use the early warning system to identify specific employers, identify or design appropriate incumbent-worker training programs, and deliver training to workers at risk for layoff.

The one-year planning period should include, at a minimum, the following elements:

• Partnership with economic development organizations, business and industry, and education and training providers to create a consensus about skills gaps between the skills of the industry or industries in decline and growth sectors and the skills that are needed in the 21st century industry competencies. This may include development and administration of assessments, surveys of employers and industry associations, identification of requirements in current industry certifications, and a mapping of the existing skills areas against those that are needed.

• Partnership with the One-Stop Career Center system and its partners and faith and community-based organizations to examine support options to support participant success in education and training programs.

• Connection to ongoing activities with similar goals, such as Regional Innovation Grants, Base Realignment and Closure activities, Workforce Innovation in Regional Economic Development Grants, and other federal, state or local efforts that have begun planning or are implementing activities in the area.

• Identification of existing education and training models, remediation models, competency-based models, career ladders, curricula, and other materials.

• Identification of, or where necessary development of, curricula, competency-based models, career ladders, and other materials to support training.

• Creation of a sustainability plan to continue engagement with at-risk businesses after the grant ends.

The implementation period should be a minimum of two years and it may overlap with the planning period. The implementation phase should incorporate the information gathered through the Early Warning System created in year one of the grant. The implementation period should include, at a minimum, the following elements:

• Partnerships with education and training providers to provide the necessary education and training to individuals at risk for dislocation including work readiness; remediation; science, technology, engineering and math (STEM); and other industry required competencies and curricula.

• Leveraging financial and non-financial resources to support training, including existing curricula, space, equipment, faculty, and other resources.

• Outcomes appropriate to the nature of the solution, including the number of businesses impacted, the return of investment to the business, the number of individuals who receive services, the number of individuals who receive training, the number of individuals who complete training, the number of credentials awarded, ETA's common measures (entered employment, employment retention, average earnings), wage gains, promotions, and other outcomes determined important by the applicant. Outcomes for each grantee will be negotiated following grant award based on the information contained in their grant agreement and the needs of ETA's independent evaluation of the demonstration if applicable.

• Creation of a replication model to be disseminated to other workforce agencies.

Background Information for Category 3—Innovative Adult Learning Models for Dislocated Workers: Applicants may only submit an application under one of the following options: Option A—Innovative Adult Learning Strategies or Option B—Innovative Earn/Learn Models Using Apprenticeship. This background information is relevant to both options.

More than three million jobs have been lost between 1998 and 2003, with 2.7 million lost since the immediate pre-recession year of 2000. Manufacturing job losses have primarily been in traditional sectors such as automotive and textiles, and now with the economic slowdown, layoffs are projected in finance, construction and other industries. Many of these are jobs that will likely not come back. The 21st century economy demands a workforce with postsecondary education credentials, and the adaptability to respond immediately to changing economic and business needs. Innovative approaches need to be tried to retrain and retool dislocated workers for high-demand jobs in industries that will be here for the long term and can provide wages comparable to what they have been earning such as Information Technology, Healthcare, Biotechnology, Advanced Manufacturing, Energy and others.

The public workforce investment system plays a leadership role in meeting these demands by catalyzing the implementation of innovative talent development and lifelong learning strategies that will enable American workers to advance their skills and remain competitive in the global economy.

1. Innovative Adult Learning Models Demonstration

This demonstration is focused on creating new or identifying existing innovative strategies for educating and training dislocated workers. These strategies must address the issues commonly faced by dislocated workers including: (1) The need to earn income while in training, (2) the need for basic skills remediation, particularly for STEM¹ areas and literacy, to achieve skill levels required for education and training programs, (3) difficulty learning in traditional education formats, (4) accelerated learning options to shorten the time of skills upgrading. Applicants may only submit an application under one of the following options: Option A—Innovative Adult Learning Strategies or Option B—Innovative Earn/Learn Models Using Apprenticeship. Applicants may only submit an application under one option.

¹ Science, Technology, Engineering and Mathematics.

Option A—Innovative Adult Learning Strategies (Including, But Not Limited to Earn/Learn)

A.1. Adult Learning Strategies Demonstration

Under this option, projects will focus on identifying successful adult learning education and training models and implementing a demonstration of the model or models in a state, region, or local area targeting adult dislocated workers. Projects will adapt the education and training model, which may have been developed for adult populations in specific target populations, and demonstrate the viability of the model in helping workers learn new skills at a faster and more in-depth rate while allowing the ability to earn income.

Education and training must focus on state, regional, or local high-growth, high-demand industries. This demonstration will require strong partnerships among State Workforce Agencies, state and local workforce investment boards, One-Stop Career Centers, businesses (existing or new partners), education and training providers including community colleges, adult and vocational education providers, 4-year universities, other training providers, and community or faith based organizations.

A.2. Necessary Project Components

Applicants will identify innovative adult learning strategies and models that address the needs dislocated workers have for: accelerated time to credential, blended learning strategies, remediation in foundational academics, different learning environments, and accessing learning on different schedules and using different modalities. These models may not include apprenticeship components, but may include on-the-job training. Applicants will select a least one model to be adapted for their demonstration. Each applicant must determine what high-growth, high-demand industries are driving their economy and where there are job and skill shortages. This should be done in collaboration with state Labor Market Information agencies, economic development agencies, business and industry partners, and education and training providers. This model will require a formal partnership between the applicant SWA and at least one entity from each of the following: local workforce investment board/One-Stop Career Center; an education or training provider, and an individual business or industry association. Multiple partners in these categories are not required but are strongly encouraged. Economic development organizations and faith and community-based organizations are not required but are also strongly encouraged. The SWA, in conjunction with its local workforce investment board(s) will oversee the design and operation of this demonstration.

It is expected that the demonstration will accomplish a seamless transition for dislocated workers who will be retrained under the innovative adult learning strategy or model for jobs in high-growth and high-demand industries. Using leveraged resources, incentives may be provided to dislocated workers including, but not limited to, wrap around supportive services including stipends. However, it is not ETA's intent to have grant funds used in the provision of supportive services under this component.

A.3. Project Requirements

The Innovative Adult Learning Strategies Demonstration is not intended to fund the creation of entirely new training models. Rather, projects should be innovative in how they adapt existing models to the adult dislocated worker population and be tailored to the specific needs of workers in their region. Applications must include, but are not limited, to the following elements:

• A demonstration of need in the area of the demonstration, including identification of: the dislocated worker pool, the high-growth, high-demand industries in the area, the occupations on which to focus retraining efforts, the skills and competencies required in those occupations, and the assets the currently exist for the project to leverage.

• A description of the roles of current and future partners in the grant and the leveraged resources they will bring to the table.

• A description of how the innovative training model was identified and selected to be adapted for demonstration. A discussion of the ways in which the model will need to be adapted to meet the education and training needs of the targeted dislocated workers including the need to earn while they learn, an accelerated timeline, remediation, and different learning schedules and modalities. Additionally, applicants should describe anticipated skill assessments and mapping to high growth, high demand industries.

• A description of the projected number of individuals to be trained under the grants and the expected outcomes including ETA's common measures (entered employment, employment retention, and average earnings), the number of credentials awarded, and other outcomes determined important by the applicant. Specific outcomes for each grantee will be negotiated following grant award based on the information contained in their grant agreement and the needs of ETA's independent evaluation of the demonstration if applicable.

• A commitment to documenting the training model in such a way that the model can be disseminated to other workforce agencies.

Option B—Innovative Earn/Learn Model Using Apprenticeship

B.1. Earn/Learn Using Apprenticeship Demonstration

This option focuses on demonstrating innovative and fresh approaches in retraining and re-skilling adult learners and dislocated workers through Registered Apprenticeship in high-demand industries. Projects must demonstrate the viability of the model in helping adult workers learn new skills at a faster and more in-depth rate for high growth industries such as advanced manufacturing, biotechnology, energy, health care, and information technology.

This demonstration will require strong partnerships among WIA state agencies, Workforce Investment Boards, One-Stop Career Centers, businesses (existing or potential apprenticeship sponsors), labor organizations, industry, education/training providers, Registered Apprenticeship offices (the federal Office of Apprenticeship or a State Apprenticeship Agency) and any other appropriate federal or state offices or other entities with resources that can be leveraged to make the project a success. The strategy may be incorporated into regional economic development goals to build a globally competitive and prepared workforce.

A goal of this option is to develop and register new apprenticeship programs to serve dislocated workers and adult learners. Registered Apprenticeship is a critical postsecondary education, training, and employment option available in every state in the country, and is an important component of talent development strategies. The model is an excellent option for dislocated workers and others who are transitioning from declining industries to new occupations because it provides immediate employment for apprentices.

Registered Apprenticeship is a national training system that combines paid learning on-the-job and related technical and theoretical instruction in a skilled occupation with guaranteed wage structures. As an “earn-while-you-learn” model, Registered Apprenticeship is particularly attractive for dislocated workers with families and financial obligations who must have a paycheck while they gain additional education or workforce skills while transitioning to a new career. Most dislocated workers may not be able to go to school full time without benefit of a job. Registered Apprenticeships provide access to education and training that may not otherwise be accessible to many adults. Additionally, regions that adopt robust Registered Apprenticeship programs in the context of economic development strategies create seamless pipelines of skilled workers and flexible career pathways to meet current and future workforce demands.

Upon completion of the apprenticeship, apprentices earn certificates that are recognized nationwide as portable industry credentials. Many apprenticeship programs-particularly in high-growth industries such as health care, advanced manufacturing and transportation—also offer interim credentials and training certificates based on a competency model that leads to a Certificate of Completion. There may be beginning, intermediate, advanced, and specialty certification levels. Registered Apprenticeship programs also allow credit for previous apprenticeship-related experience.

Registered Apprenticeship is a highly versatile training strategy that aligns with and advances the goals of key workforce investment system initiatives. By coordinating and collaborating with the knowledgeable professionals that make up the Registered Apprenticeship system, the workforce system can increase the quality of its services to both its employer and worker customers and enhance activities in support of current workforce system priorities.

B.2. Necessary Project Components

Applicants will develop a registered apprenticeship model that targets dislocated workers and adult learners to help them transition into a high-demand industry. The Registered Apprenticeship programs are expected to produce skilled workers that are in demand in a minimum of one high-growth industry in local area(s) where dislocation occurs. Each location must determine what high-demand industries are driving their economy and where there are job and skill shortages. This model will require applicants to form formal partnerships and/or consortia among WIA, employers (current and/or potential apprenticeship sponsors), organized labor, employer associations, educational institutions, state apprenticeship agencies, or the federal Office of Apprenticeship and other entities whose resources can be leveraged to make the program a success. Members of the partnership/consortium will oversee the design and operation of this initiative.

It is expected that the project will accomplish a seamless transition for adult learners and dislocated workers who will be retrained through Registered Apprenticeship for high demand jobs in industries that will be here for a long time and can provide wages comparable to what they have been earning. Using leveraged resources, incentives may be provided including, but not limited to, wrap around supportive services including stipends. However, it is not ETA's intent to have grant funds used in the provision of supportive services under this component.

Projects should be innovative, fresh approaches to retraining and re-skilling dislocated workers and mature adult learners for high-demand jobs. The following are possible models and linkages with registered apprenticeship to transition dislocated workers to new industries and which consortia/partnerships may want to test. However, applicants are not limited to these suggestions.

• Identify companies and geographic areas with large concentrations of requests for H-1B visas and develop a demonstration to train and employ dislocated workers to fill these jobs.

• Develop a demonstration which leverages competency-based registered apprenticeship occupations.

• Develop models and linkages with registered apprenticeship to transition workers to the nuclear and alternative energy industries drawing from laid off workers in these communities.

• Explore options for developing “green collar” apprenticeships.

• Promote Registered Apprenticeship as a career development strategy in industries with high turnover.

B.3. Project Requirements

Additionally, applicants must include the following in their grant application:

• Description of model.

• Description of the types of High Growth Industry apprenticeable occupations in which the registered apprenticeship program's plans to train and employ workers.

• Description of each partner's role in recruiting, selecting, training, placing and retaining workers in registered apprenticeships in the project.

• Strategies for identifying the employers who will train and employ Adult Learners and/or Dislocated Workers.

• Discuss in detail how the applicant and its partnership/consortium plan to: (1) Conduct outreach strategies to declining businesses and industries; (2) outreach strategies to industries that will employ the dislocated and/or mature adult workers; (3) conduct outreach strategies and orientation sessions to recruit dislocated workers into education and training; (4) utilize support groups and facilitating networks for Dislocated Workers in registered apprenticeships, on or off the job site, to improve their retention.

• Description of all services that will be offered and who will provide them.

• Describe how the partners will assure that there are or will be suitable and appropriate positions available in the High Growth Industry registered apprenticeship programs.

• Activities and Timeline.

• Description of Outcomes. Please note, ETA will consider the successful placement of a minimum of 50 Adult learners and/or Dislocated Workers in High Growth industry registered apprenticeships the primary successful outcome a grantee can achieve.

• Budget.

Background Information for Category 4—Preventing Dislocations of TANF Recipients Moving Into Entry Level Jobs Subject to Economic Churn:

1. Preventing Dislocations of TANF Recipients Demonstration

Since the passage of the Temporary Assistance to Needy Families (TANF) program in 1996, there has been success in transitioning individuals off welfare and into transitional employment. Transitional employment opportunities typically are located on the lowest rung of the career ladder and require work readiness and basic education and skill training. These positions are most susceptible to churn resulting from economic shifts that cause employment opportunities to grow and contract on a regular basis depending on the state of the economy or the season. The result is individuals cycling between low-level employment and government assistance, such as unemployment insurance benefits and food stamps. Former TANF recipients who have moved into employment are becoming the next generation of employees most at risk for dislocation.

Given that unemployment insurance is becoming the new safety net for those former TANF recipients that are moving into the workforce, the goal of this demonstration is to provide additional education and training to former TANF recipients, who have successfully entered transitional employment, to move them up the career ladder in the high-growth, high-demand sectors of healthcare, hospitality, and retail resulting in: (1) An increase in the employment retention of former TANF recipients, (2) a reduction in the number of former TANF recipients that are unemployed, and (3) an increase in earnings for former TANF recipients through placement in career-ladder positions to enable them to achieve self sufficiency. This will require partnerships with the TANF system at the state and local level, education and training providers including adult education and community colleges, and business and industry.

2. Necessary Project Components

Applicants must include the following project components: partner roles and industry focus. These are described in detail below.

• Partner Roles. Required partners in this demonstration include: the State Workforce Agency (applicant) and at least one entity from each of the following categories: local workforce investment board and One-Stop Career Center, state TANF agency, local TANF agency, community or technical college, adult or vocational education provider, business and industry, and faith and community-based organizations. Additional partners are encouraged, but not required, including economic development agencies, the state adult education agency, K-12 high school systems, four year universities, and philanthropic organizations. Partners must submit letters of commitment detailing their roles in the project. At a minimum, the partner should contribute the following to the demonstration:

• The State Workforce Agency should be responsible for coordinating the work of the partners and reaching out to other state agencies.

• Local workforce investment boards and One-Stop Career Centers should at a minimum:

• Work with state or local TANF agencies to identify former TANF recipients who obtained successful entered transitional employment but (1) are currently receiving unemployment insurance or (2) are at risk of unemployment;

• Assess and refer candidates to trainings; and

• Track outcomes of candidates.

• State and local TANF agencies should work with the local workforce investment system to identify former TANF recipients for training; share expertise and models in moving individuals into employment; and leveraging resources where appropriate.

• Community Colleges should map the competencies needed to advance up the chosen career ladder, assist in design and provision of remediation, and provide education and training.

• Adult or Vocational Education Providers should assist in the design and provision of remediation, and provide education and training.

• Business and Industry partners should assist in identifying individuals for the demonstration, identify career ladder opportunities, and work with education and training partners to develop demand-driven training to move individuals up career ladders.

• Faith and Community Based Organizations should share expertise in successful strategies for working with the target population and should provide outreach and wrap around support services as needed. For applicants partnering with faith and community based organizations please visit http://www.dol.gov/cfbci/accesspoints.htm for specific mechanisms and strategies for integrating these organizations into the proposal.

Additional partners, including those listed above, will enhance the depth and breadth of the demonstration and are strongly encouraged.

• Industry Focus. This project is intended to be a sectoral demonstration focused on the healthcare, hospitality, and retail industries. Education and training must be focused on career ladder opportunities in one of these industries. Examples of career-ladder based education and training programs already demonstrated either under the High Growth Job Training Initiative and Community-Based Job Training Grants and by state and local areas, educational institutions and non-profit organizations can be found at www.workforce3one.org. The Workforce3 One Web site is a valuable resource for information about demand-driven projects of the workforce investment system, educators, employers, and economic development representatives. ETA encourages applicants to look to existing education and training models that may be adaptable to serve the target population and goals outlined in this Solicitation.

3. Project Requirements

ETA is seeking innovative solutions to address the goal of moving former-TANF recipients up the career ladder in the healthcare, hospitality, and retail industries. The demonstration should meet the needs of former TANF recipients as well as business and industry. In addition, ETA is looking for demonstrations that include at least two of the following components:

• Use of college-bridge programs for individuals with low skills. Bridge programs offer a way for low-skilled individuals to successfully complete education and training in a college environment. The bridge program offers an intermediate step between the individual's current position and full integration into college-level coursework;

• Use of contextualized learning to integrate basic skills remediation into industry skills training curricula;

• Use of on-the-job training or other learn/earn education strategies;

• “Grow your own” strategies with employers committing to education and training onsite to advance employees in low-level positions and partnering with state and local workforce and TANF agencies to backfill entry-level positions with individuals currently receiving TANF but who are ready to move into transitional employment;

• Non-traditional education models that utilize flexible schedules to accommodate individuals' work and family schedules;

• Development of modularized credit-based courses that allow individuals to break up certificate or degree programs into shorter, more manageable tracks; or

• Inclusion of career counseling and mentors.

Part II. Award Information

1. Award Amount

ETA anticipates awarding between 16 and 20 grants under this solicitation, with individual grants ranging in value from $500,000 to $2 million. However, this does not preclude ETA from funding grants at either a lower or higher amount, or funding a smaller or larger number of projects, based on the type and the number of quality submissions. Applicants are encouraged to submit budgets for quality projects at whatever funding level is appropriate to their project.

2. Period of Performance

The period of grant performance will be up to 36 months from the date of execution of the grant documents. This performance period shall include all necessary implementation and start-up activities, participant follow-up for performance outcomes, and grant close-out activities. ETA may elect to exercise its option to award no-cost extensions to grants for an additional period, based on the success of the program and other relevant factors, if the grantee requests, and provides a significant justification for, such an extension.

3. Leveraged Resources

Under this funding opportunity, ETA is not requiring the applicants to provide leveraged resources. However, projects funded under this solicitation should leverage resources per the rating criteria from key entities in the strategic partnership. Businesses, faith-based and community organizations, economic development entities, education systems, and philanthropic foundations often invest resources to support workforce development. In addition, other federal, state, and local government programs may have resources available that can be integrated into the proposed project. Examples of such programs include other Department of Labor programs such as registered apprenticeship, as well as non-DOL One-Stop partner programs such as Vocational Rehabilitation, Adult Education, and Department of Education Pell Grants.

As applicable, applications will be scored based on the quality and the degree to which the source and use of leveraged funds are clearly explained and the extent to which they are integrated into the project in support of grant outcomes. Leveraging resources in the context of strategic partnerships accomplishes three goals: (1) It allows for the strategic pursuit of resources; (2) it increases stakeholder investment in the project at all levels including design and implementation phases; and (3) it broadens the impact of the project itself. Applicants are encouraged to leverage significant resources from key partners and other organizations to maximize the impact of the project on the community.

Leveraged Resources include the value of goods and services that would be allowable costs if paid for with grant funds whether incurred as a cost by the recipient or a sub-recipient and paid for with either non-federal or federal dollars, or provided as volunteer services valued in accordance with the provisions at 29 CFR part 95.23(d) and (e) or part 97.24(c)(1) and (2), as appropriate. Also, leveraged resources are subject to monitoring reviews. Partnering organizations may provide resources such as supportive services, mentoring, tutoring, and volunteers—all of which are important for grantees to leverage when assisting certain individuals targeted by these funds. For applicants who choose to leverage resources, please include the following information in the technical proposal: (1) The total amount leveraged from federal sources; (2) the total amount leveraged from non-federal sources; (3) the partners contributing the resources; and (4) the projected activities, broken out by the source of the leveraged resource (federal or nonfederal), to be implemented utilizing these resources. Applicants should address leveraged resources (as applicable) in the technical proposal but should not reflect the leveraged resources on the SF424A form.

ETA encourages applicants and their strategic partners to be entrepreneurial as they seek out, utilize, and sustain these resources, whether they are in-kind or cash contributions, when creating strategic partnerships under this solicitation.

4. Funding Restrictions

Determinations of allowable costs will be made in accordance with the applicable Federal cost principles. Disallowed costs are those charges to a grant that the grantor agency or its representative determines not to be allowed in accordance with the applicable Federal cost principles or other conditions contained in the grant. Applicants will not be entitled to reimbursement of pre-award costs.

Limitations on Cost Per Participant. Since training costs may vary considerably depending on the skills and competencies required, flexibility will be provided on cost per participant. However, applications for funding will be reviewed to determine if the cost of the training is appropriate and will produce the outcomes identified. Applicants should demonstrate that the proposed cost per participant is aligned with existing price structures for similar training in the local area or other areas with similar characteristics. When calculating cost per participant, applicants must distinguish between non-training and training costs utilizing grant funds.

Indirect Costs. As specified in the Office of Management and Budget Circular Cost Principles, indirect costs are those that have been incurred for common or joint objectives and cannot be readily identified with a particular cost objective. An indirect cost rate (ICR) is required when an organization operates under more than one grant or other activity whether Federally-assisted or not. Organizations must use the ICR supplied by the cognizant Federal agency. If an organization requires a new ICR or has a pending ICR, the Grant Officer will award a temporary billing rate for 90 days until a provisional rate can be issued. This rate is based on the fact that an organization has not established an ICR agreement. Within this 90 day period, the organization must submit an acceptable indirect cost proposal to their Federal cognizant agency to obtain a provisional ICR.

Administrative Costs. An entity that receives a grant to carry out a project or program under one of the categories in this solicitation may not use more than 10 percent of the amount of the grant to pay administrative costs associated with the program or project. Administrative costs could be both direct and indirect costs and are defined at 20 CFR 667.220. Administrative costs do not need to be identified separately from program costs on the Standard Form 424A Budget Information Form. Administrative costs should be discussed in the budget narrative and tracked through the grantee's accounting system. To claim any administrative costs that are also indirect costs, the applicant must obtain an indirect cost rate agreement from its Federal cognizant agency as specified above.

Use of Funds for Supportive Services. It is not ETA's intent for grant funds to be used for the provision of supportive services, such as transportation and childcare, including funds provided through stipends for such purposes. However, applicants are encouraged to identify strategic partners as appropriate who can provide these services as leveraged resources. If supportive services are proposed as an integral part of the project, use of grant funds for this purpose will require a one-time approval from the Grant Officer prior to the grantee incurring these costs.

Salary and Bonus Limitations. None of the funds appropriated in Public Law 109-149, Public Law 110-5, or prior Acts under the heading “Employment and Training” that are available for expenditure on or after June 15, 2006, shall be used by a recipient or sub-recipient of such funds to pay the salary and bonuses of an individual, either as direct costs or indirect costs, at a rate in excess of Executive Level II, except as provided for under section 101 of Public Law 109-149. This limitation shall not apply to vendors providing goods and services as defined in Office of Management and Budget (OMB) Circular A-133. See Training and Employment Guidance Letter number 5-06 for further clarification: http://wdr.doleta.gov/directives/corr_doc.cfm?DOCN=2262.

Legal Rules Pertaining to Inherently Religious Activities by Organizations that Receive Federal Financial Assistance. The government is generally prohibited from providing direct financial assistance for inherently religious activities (please see 29 CFR part 2, subpart D). These grants may not be used for religious instruction, worship, prayer, proselytizing or other inherently religious activities except as provided in those regulations. Neutral, non-religious criteria that neither favors nor disfavors religion will be employed in the selection of grant recipients and must be employed by grantees in the selection of sub-recipients.

ETA Intellectual Property Rights. Applicants should note that grantees must agree to provide ETA a paid-up, nonexclusive and irrevocable license to reproduce, publish, or otherwise use for Federal purposes all products developed or for which ownership was purchased under an award, including but not limited to curricula, training models, technical assistance products, and any related materials, and to authorize them to do so. Such uses include, but are not limited to, the right to modify and distribute such products worldwide by any means, electronically or otherwise.

Distribution Rights. Selected applicants must agree to give ETA the right to use and distribute all materials developed with grant funds such as training models, curricula, technical assistance products, etc. Materials developed with grant resources are in the public domain; therefore, ETA has the right to use, reuse, modify, and distribute all grant-funded materials and products to any interested party, including broad distribution to the public workforce investment system via the Internet or other means.

Part III. Eligibility Information

1. Eligible Applicants.

Eligible applicants for the grants under all categories shall be SWAs including the five territories of Puerto Rico, Virgin Islands, Guam, Northern Mariana Islands and American Samoa. Each SWA would be required to identify the local workforce investment boards and One-Stop Career Center as established under Section 121 of WIA, [29 U.S.C. 2841] that would be participating in the proposed project. Applicants must submit a letter of commitment from each of the partners participating in the proposed project.

2. Participant Eligibility Requirements

Dislocated Workers. Under Categories 1, 3 and 4, the eligible participants for these demonstrations are dislocated workers. Dislocated Workers eligibility is defined under WIA Section 101(9) as follows.

The term “dislocated worker” means an individual who—

(A)(i) has been terminated or laid off, or who has received a notice of termination or layoff, from employment;

(ii)(I) is eligible for or has exhausted entitlement to unemployment compensation; or

(II) has been employed for a duration sufficient to demonstrate, to the appropriate entity at a one-stop center referred to in section 134(c), attachment to the workforce, but is not eligible for unemployment compensation due to insufficient earnings or having performed services for an employer that were not covered under a State unemployment compensation law; and

(iii) is unlikely to return to a previous industry or occupation; (B)(i) has been terminated or laid off, or has received a notice of termination or layoff, from employment as a result of any permanent closure of, or any substantial layoff at, a plant, facility, or enterprise;

(ii) is employed at a facility at which the employer has made a general announcement that such facility will close within 180 days; or

(iii) for purposes of eligibility to receive services other than training services described in section 134(d)(4), intensive services described in section 134(d)(3), or supportive services, is employed at a facility at which the employer has made a general announcement that such facility will close;

(C) was self-employed (including employment as a farmer, a rancher, or a fisherman) but is unemployed as a result of general economic conditions in the community in which the individual resides or because of natural disasters; or

(D) is a displaced homemaker.

Incumbent Workers. Under Category 2, the eligible participants are incumbent workers at risk for dislocation. Incumbent Workers at risk for dislocation are defined as those workers who are in declining, at risk, or transforming industries who are in need of skill upgrades to avert lay off in the their current position or to obtain new employment in the same or a different industry should their current employment no longer be viable.

TANF Recipients. Under Category 4, eligible participants will meet the definition of a dislocated worker as stated above and will have received assistance under the Temporary Assistance for Needy Families Act within the past five years.

Veterans Priority. The Jobs for Veterans Act (Pub. L. 107-288) provides priority of service to veterans and spouses of certain veterans for the receipt of employment, training, and placement services in any job training program directly funded, in whole or in part, by the Department of Labor. In circumstances where a grantee must choose between two equally qualified candidates for training, one of whom is a veteran, the Jobs for Veterans Act requires that the grantee give the veteran priority of service by admitting him or her into the program. Please note that, to obtain priority of service, a veteran must meet the program's eligibility requirements. ETA Training and Employment Guidance Letter (TEGL) No. 5-03 (September 16, 2003) provides general guidance on the scope of the Job for Veterans Act and its effect on current employment and training programs. TEGL No. 5-03, along with additional guidance, is available at the Jobs for Veterans Priority of Service Web site: http://www.doleta.gov/programs/vets.

Part IV. Application and Submission Process

A. Address to Request Application Package

This SGA contains all of the information and links to forms needed to apply for grant funding.

B. Content and Form of Application Submission

Applicants may submit only one application under this solicitation. Applications submitted after receipt of the initial application will not be accepted unless the initial application is withdrawn in accordance with Section E. of this part. The proposal must consist of two (2) separate and distinct parts, Parts I—The Cost Proposal and Part II—The Technical Proposal. Applications that fail to adhere to the instructions in this section will be considered non-responsive and may not be given further consideration. Applicants who wish to apply do not need to submit a Letter of Intent. The completed application package is all that is required.

Part I—The Cost Proposal must include the following three items:

• The Standard Form (SF) 424, “Application for Federal Assistance” (available at http://www.doleta.gov/sga/forms.cfm). The SF 424 must clearly identify the applicant and be signed by an individual with authority to enter into a grant agreement. Upon confirmation of an award, the individual signing the SF 424 on behalf of the applicant will be considered the Authorized Representative of the applicant.

• All applicants for Federal grant and funding opportunities are required to have a Data Universal Numbering System (DUNS) number provided by Dun and Bradstreet. See OMB Notice of Final Policy Issuance, 68 FR 38402 (June 27, 2003). Applicants must supply their DUNS number on the SF 424. The DUNS number is a nine-digit identification number that uniquely identifies business entities. Obtaining a DUNS number is easy and there is no charge. To obtain a DUNS number, access this Web site, www.dunandbradstreet.com, or call 1-866-705-5711.

• The SF 424A Budget Information Form (available at http://www.doleta.gov/sga/forms.cfm). In preparing the Budget Information Form, the applicant must provide a concise narrative explanation to support the request. The budget narrative should explain the administrative costs and how they support the project goals. All applicants should indicate training costs-per-participant by dividing the total amount of the budget designated for training by the number of participants trained. Please note that applicants that fail to provide an SF 424, SF 424A and a budget narrative will be removed from consideration prior to the technical review process. If the proposal calls for integrating WIA or other federal funds or includes other leveraged resources, these funds should not be listed on the SF 424 or SF 424A, Budget Information Form, but should be described in the budget narrative. The amount of Federal funding requested for the entire period of performance should be shown together on the SF 424 and SF 424A Budget Information Form. Applicants are also encouraged, but not required, to submit the OMB Survey No. 1890-0014: Survey on Ensuring Equal Opportunity for Applicants, which can be found at: http://www.doleta.gov/sga/forms.cfm.

Part II—The Technical Proposal of the application demonstrates the applicant's capabilities to fulfill the intention of the category selected. The Technical Proposal is limited to twenty (20) double-spaced, single-sided, 8.5 inch x 11 inch pages with twelve point text font and one-inch margins. The first page of Part II—The Technical Proposal must consist entirely of an executive summary not to exceed one page. Applicants should number the Technical Proposal beginning with page number one. Any pages over the 20-page limit will not be reviewed. The required letter(s) of commitment and/or documentation of partnership must be submitted and will not count against the 20 page limit. Please note, letters of commitment should be sent with or attached to the application. Additionally, the applicant must reference grant partners by organizational name in the text of the Technical Proposal. No cost data or reference to prices should be included in the Technical Proposal. Applications may be submitted electronically on http://www.grants.gov or in hard-copy via U.S. mail, professional overnight delivery service, or hand delivery. These processes are described in further detail in Part IV.C. Applicants submitting proposals in hard-copy must submit an original signed application (including the SF 424) and one (1) “copy-ready” version free of bindings, staples or protruding tabs to ease in the reproduction of the proposal by USDOL/ETA.

C. Submission Date, Times and Mailing Address

The closing date for receipt of applications under this announcement is June 13, 2008. Applications must be received at the address below no later than 4:30 p.m. (Eastern Time). Applications sent by e-mail, telegram, or facsimile will not be accepted. Applications that do not meet the conditions set forth in this notice will not be honored. No exceptions to the mailing and delivery requirements set forth in this notice will be granted.

Please submit one (1) blue-ink signed, typewritten original of the application and two (2) signed photocopies in one package to the U.S. Department of Labor, Employment and Training Administration, Division of Federal Assistance, Attention: BJai Johnson, Reference SGA/DFA PY-07-10, 200 Constitution Avenue, NW., Room N-4716, Washington, DC 20210. Information about applying online through www.grants.gov can be found in Section IV.C of this document. Applicants are advised that mail delivery in the Washington area is delayed due to mail decontamination procedures. Hand delivered proposals will be received at the above address.

Also, applicants may apply online through grants.gov (http://www.grants.gov). It is strongly recommended that applicants applying online for the first time via grants.gov immediately initiate and complete the “Get Registered” registration steps at http://www.grants.gov/applicants/get_registered.jsp. These steps may take multiple days or weeks to complete, and this time should be factored into plans for electronic application submission in order to avoid unexpected delays that could result in the rejection of an application. It is highly recommended that online submissions be completed at least three (3) working days prior to the date specified for the receipt of applications to ensure that the applicant still has the option to submit by overnight delivery service in the event of any electronic submission problems. If submitting electronically through grants.gov, the components of the application must be saved as either .doc, .xls or .pdf files.

Late Applications. Any application received after the exact date and time specified for receipt at the office designated in this notice will not be considered, unless it is received before awards are made, was properly addressed, and: (a) Was sent by U.S. Postal Service registered or certified mail not later than the fifth calendar day before the date specified for receipt of applications (e.g., an application required to be received by the 20th of the month must be post marked by the 15th of that month) or (b) was sent by professional overnight delivery service or submitted on grants.gov to the addressee not later than one working day prior to the date specified for receipt of applications. It is highly recommended that online submissions be completed three working days prior to the date specified for receipt of applications to ensure that the applicant still has the option to submit by professional overnight delivery service in the event of any electronic submission problems. Applicants take a significant risk by waiting until the last day to submit by grants.gov. “Postmarked” means a printed, stamped or otherwise placed impression that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

D. Intergovernmental Review

This funding opportunity is not subject to Executive Order (EO) 12372, “Intergovernmental Review of Federal Programs.”

E. Withdrawal of applications

Applications may be withdrawn by written notice at any time before an award is made. Applications may be withdrawn in person by the applicant or by an authorized representative thereof, if the representative's identity is made known and the representative signs a receipt for the proposal.

Part V. Applications Review Process

This section identifies and describes the criteria that will be used to evaluate proposals under each of the four categories. In some cases the evaluation criteria are the same for more than one category and such is identified.

Category 1—Entrepreneurship Opportunities for Dislocated Workers

The criteria and point values for Option A—Project GATE for Dislocated Workers in Rural Areas and Option B—Project GATE for Dislocated Workers Fifty Years and Older are listed in the table below.

1.A. Option Selected for Grant Application | N/A
1.B. Expanding Entrepreneurial Training Opportunities for Dislocated Workers | 30
1.C. Strategic Partnerships for Entrepreneurship Development | 25
1.D. Program Design and Outcomes | 30
1.E. Comprehensive Training Program Leading to Business Formation | 10
1.F. Integration with Regional Economic and Talent Development Strategies | 5
1.G. Bonus Points | 10

1.A. Option Selected for Grant Application

This category contains two project options; therefore, the applicant must indicate under which option they are submitting their grant application. The same application will not be reviewed under both categories.

1.B. Expanding Entrepreneurial Training Opportunities for Dislocated Workers (up to 30 points)

As described below, the applicant must show in detail how the grant resources will expand and/or improve upon entrepreneurial training opportunities for WIA Dislocated Workers.

• Need for Federal Investment (10 points)—Applicants must clearly outline the need for additional capacity for entrepreneurial training, as well as the necessity of the Federal investment. Successful applications will describe in detail the current challenges the proposal seeks to overcome and must demonstrate how the proposed project will increase opportunities for entrepreneurial training for WIA Dislocated Workers in rural areas or WIA Dislocated Workers 50 years and older.

• Expanding Entrepreneurial Training Opportunities for Dislocated Workers (15 points)—Applicants must clearly show how the grant resources will expand the entrepreneurial training options available to WIA Dislocated Workers. Applications must clearly show how many more individuals will be served than are currently being served by existing programs. Applications will be scored on how well they clearly describe the pipeline of individuals that would be trained and the recruitment strategy by which they would learn of the training opportunity. ETA expects that at minimum 200 individuals would be trained per $1 million in grant award.

• Sustainability and Scalability (5 points)—ETA places a high premium on demonstrations that can be sustainable after the grant period has ended. Proposals should outline plans for sustainability of the program post-grant in regard to the program and partnerships. Also, applications will outline the feasibility of expanding a successful program in terms of geographic reach, sites served, numbers of individuals trained, and program replication.

1.C. Strategic Partners for Entrepreneurial Development (up to 25 points)

Each SWA would be required to identify the local workforce investment boards and One-Stop Career Centers that would be participating in the project. In addition, the SWA must identify the sources of local entrepreneurial technical assistance and training that will be employed for project participants. These sources could include small business development centers, women's business development centers, minority business development centers, community-based or faith-based service providers, local chambers of commerce, or other local economic development entities including rural economic development organization. Applicants must provide letters of commitment from each partner detailing their involvement in the proposal.

• Strategic Partners (10 points)—The strength of the strategic partnership is critical to the successful execution of the proposal and the post-grant viability of the program. Applicants must clearly explain how the range of partners matches the needs of participants and provides the deepest possible reach into the affected community. In addition, the strategic partners must be engaged to the fullest extent possible and articulate how each partner's area of expertise will be utilized in the project. Letters of commitment from each partner detailing their participation in each stage of the project are required. The applicant must discuss how the partners will interact at each stage of the project and the ability of the lead organization to successfully manage the partnership and project. In selecting strategic partners, it is important to engage those partners that can provide a complete service delivery strategy for project participants. This complete strategy would include partners that provide assistance with business counseling, entrepreneurial training, and loan application and financial assistance.

• Economic Development Institutions (10 points)—Critical to the success of the grants will be the participation of key economic development institutions in the local area. These institutions could include small business development centers, women's business development centers, minority business development centers, local chambers of commerce, or other local economic development entities including rural economic development organizations. For example, applicants would leverage the business counseling expertise of a local small business development center or SCORE (Counselors to America's Small Business) chapter. Applicants will be scored based upon how well they describe the role of the economic development institutions in the project and how they will integrate into a seamless service delivery strategy for project participants.

• Organizational Capacity (5 points)—The applicant must discuss their ability to successfully manage the project and partnership. Applications will be scored based on how well they detail each partner's experience, expertise, and ability to fulfill their part of the proposal and document any history of past collaborations (if applicable). In addition, expertise in previous demonstration grant projects and entrepreneurship projects should be well documented.

1.D. Program Design and Outcomes (up to 30 points)

In evaluating the quality of the program design and management plan for each proposal, ETA will consider the following elements.

• Program Design (25 points)—Applicants must clearly outline the training or learning program to be developed, expanded, and/or created, and include timelines for implementation and benchmark evaluations as appropriate. Applicants will be scored on this criteria based on their ability to implement the GATE model as described in Part I of this SGA. Applicants will also be scored on the extent to which the management plan appears likely to achieve the objectives of the project in meeting the goals of the Project GATE grant.

• Performance Management and Outcomes (5 points)—Applications will project the increased number of individuals that will be able to receive training and business counseling. Estimations of projected increases in individuals trained should be compelling and fully formed, and include consideration from all appropriate factors.

1. E. Comprehensive Training Program Leading to Business Formation (up to 10 Points)

The applicant must describe the type of curriculum being used for the entrepreneurial training portion of the grant. At minimum, training providers must offer basic courses for those just starting businesses that focus on developing a business plan. Topics covered in these basic courses should include: the development of a business plan, market research, marketing, pricing, financing, cash flow, accounting, hiring, permits and licenses, and legal issues. Other courses should target participants who already have developed business plans and may have started their businesses, but need assistance in growing the business. These more advanced courses may cover topics such as growth strategies, business planning, and customer relations.

1.F. Integration with Regional Economic and Talent Development Strategies (up to 5 points)

Scoring on this criterion will be based on the applicant's ability to demonstrate that their project is aligned with and integrated into their region's talent development and economic development strategy. Applicants may receive up to 5 points by:

• Summarizing the region's strategic vision and workforce education strategies in support of talent development and economic growth.

• Either describing how their capacity building and training solution is part of or complements existing approaches under regional talent development and economic development plans and initiatives; or describing how their project is a catalyst for bringing partners together to begin the analysis and strategic planning in their region.

• Describing any regional partnerships that are part of their capacity building and training plans and detail how the partnerships are broader and deeper in scope than the local partnerships in place for the proposed capacity building and training activity. Regional partners may include regional business leadership and organizations, such as chambers of commerce; economic development entities at the regional level; the philanthropic community; seed and venture capital organizations or individuals; investor networks; entrepreneurs; and faith and community-based organizations.

• For applicants leveraging resources, describing how the funds leveraged come from regional partners or from existing or planned talent development efforts within the region.

1.G. Bonus Points (up to 10 points)

ETA will award a total of ten bonus points to applicants who address the following two criteria.

• Financial Assistance (5 points)—Additional points will be awarded to SWAs that identify service providers for their client service delivery plan that provide direct financial assistance to their clients. Types of direct financial assistance may include, but are not limited to, individual development accounts, low-cost, low-documentation loans, grants, seed money, or angel investment.

• Work Search Waiver (5 points)—Additional points will be awarded to those states that provide dislocated workers receiving unemployment compensation a waiver from the work search requirement while engaged in entrepreneurial training.

Category 2—Getting Ahead of the Curve: Raising Educational/Skill Levels of Workers in Declining Industries

The criteria and point values for this category are listed in the table below.

2.A. Statement of Need | 10
2.B. Strategic Partnerships | 20
2.C. Project Design and Implementation | 40
2.D. Work plan, Timeline, and Outcomes | 15
2.E. Program Management and Organizational Capacity, and Budget | 10
2.F. Integration with Regional Economic and Talent Development Strategies | 5

2.A. Statement of Need (up to 10 points)

Applicants must clearly outline the need in their state for an early warning network and strategies to engage businesses in delivering incumbent worker training in declining industries. Successful applicants will describe in detail the current challenges in their state in identifying industries and companies in decline or transformation and in re-skilling or up-skilling incumbent workers to avoid dislocation. Additionally, the applicant should describe the workforce system's current relationship with businesses and how the proposed project will increase the engagement with at-risk business with the result of raising the education and skill levels of their workers.

2.B. Strategic Partnerships (up to 20 points)

The applicant must demonstrate that strategic partnerships are an integral component of their Early Warning Network and Business Engagement Strategy and are comprised at a minimum of: the workforce system, education and training providers (which may include community and technical colleges, adult education and vocational education programs or providers, alternative education programs or providers, four-year universities, and other private or not-for-profit training providers), business and industry, and economic development entities. Applicants must:

• Identify all current and potential partners and explain the meaningful role that each partner will play in the project.

○ Required partners include the workforce system at the state and local levels, governmental and/or non-governmental economic development agencies at the state and/or local levels, one or more educational or training entities, one or more companies or business or industry associations, and one or more outplacement firms. Additionally, optional partners include philanthropic organizations, faith and community-based organizations, governmental and non-governmental education agencies, and labor management organizations if applicable.

• Describe how new and existing partnerships will be engaged to plan and implement the Early Warning Network and Business engagement strategy.

• Identify the sources of leveraged resources and what activities will be implemented using those resources

• Elaborate on how leveraged resources and partnerships will achieve more significant impacts

• Demonstrate existing coordination of partnerships or capacity to quickly establish these links

• Demonstrate that the project has the partnerships necessary to have broad community reach.

Points for this criterion will be awarded based on several factors:

• The completeness of the partnership, based on project design;

• The degree of meaningful engagement of partners in project activities; and

• The extent to which the applicant integrates partners' strengths and assets into project design and implementation; and;

• The extent to which strategic partnerships meet the elements laid our under the early warning system and business engagement planning and implementation sections of this Solicitation.

2.C. Project Design and Implementation (up to 40 points)

The applicant must fully describe all features of the proposed project, how it would be operationalized and how all activities, strategies, and resources would be integrated to support the goal of raising the education and skill levels of workers at risk of dislocation.

Elements in this section should address:

• A description of the strategies that will be employed to create the early warning system including the demonstration of strong collaboration with state Labor Market Information (LMI) departments through documented ongoing working relationships with LMI staff; working knowledge of core products, services, reports and Web sites; selection of targeted occupations and industries based on Workforce Information; and collaboration with LMI departments to develop new products and services to assist in the prediction of economic change;

• Aligning resources between different federal, state, and local governments;

• Leveraging financial and non-financial resources from governmental and non-governmental partners;

• Outreach and education strategies to business and industry about benefits of collaboration with the workforce system, early notice of potential layoffs, and the benefits of incumbent worker training for the purposes of up-skilling or re-skilling employees;

• Strategy for provision of incumbent worker training and the credentials to be associated with training;

• Strategy for re-employment of individual following completion of training, either within the same company or industry or in a new industry or occupation;

• Creation of a replication model to be disseminated to other workforce agencies;

• A plan for sustainability beyond the life of the grant;

• Identification of existing education and training models, remediation models, competency models, career ladders, curricula, and other materials; and

• A plan for identifying or creating curricula, competency models, career ladders, and other materials to support training.

Points for this criterion will be awarded based on several factors:

• The completeness of the project description and evidence that proposed activities will achieve the objectives of this Solicitation as described in this Solicitation, including clear strategies for planning and implementation phases;

• Demonstrated capacity of the application to align resources and provide services;

• Evidence that the proposed activities are clearly linked to the need in the region; and

• The existence of a clear sustainability plan that will continue to support the early warning network and business engagements strategies to identify or design appropriate incumbent-worker training programs, and deliver training to workers at risk for layoff.

2.D. Work plan, Timeline, and Outcomes (up to 15 points)

In this section, applicants will provide a plan of work that outlines how the early warning network and business engagement activities and incumbent worker training will be accomplished. The work plan should include a timeline as well as the lead partner for each activity/strategy. Applicants are encouraged to create tight work plans that will provide actionable activities during the period of performance for this grant. It is not necessary to have an extensive list of strategies, but rather strategies that will bring about the desired outcomes and address the challenges laid out in the statement of need. In addition, the applicant must provide information on the outcomes which are expected to be achieved. Applicants are not required to include specific numerical outcome projections but should include a detailed summary of the projected outcomes and impacts appropriate to the nature of their project including the number of businesses impacted, the return of investment to the business, the number of individuals who receive services, the number of individuals who receive training, the number of individuals who complete training, the number of credentials awarded, ETA's common measures (entered employment, employment retention, average earnings), wage gains, promotions, and other outcomes determined important by the applicant.

Scoring on this section will be based on the extent to which applicants provide the following:

• The potential for the work plan to achieve the desired outcomes;

• The viability of the timeline;

• The extent to which the expected project outcomes are identified, realistic and consistent with the objectives of the project;

• The ability of the project to achieve the outcomes in the stated timeframe; and

• The appropriateness of the outcomes with respect to the challenges described in the statement of need and the proposed project activities listed in the project design and implementation section.

2.E. Program Management, Organizational Capacity, and Budget (10 points)

To satisfy this criterion, applicants must describe their proposed project management structure including, where appropriate, the identification of a proposed project manager, discussion of the proposed staffing pattern, and the qualifications and experience of key staff members. Applicants should also show evidence of the use of data systems to track outcomes in a timely and accurate manner. The applicant should include a description of organizational capacity and the organization's track record in projects similar to that described in the proposal and/or related activities of the primary partners.

Scoring under this criterion will be based on the extent to which applicants provide evidence of the following:

• The time commitment of the proposed staff is sufficient to ensure proper direction, management, and timely completion of the project;

• The roles and contribution of staff, consultants, and collaborative organizations are clearly defined and linked to specific objects and tasks;

• The background, experience, and other qualifications of the staff are sufficient to carry out their designated roles;

• The applicant organization has significant capacity to accomplish the goals and outcomes of the project, including the ability to collect and manage data in a way that allows consistent, accurate, and expedient reporting; and

• The budget is sufficient to meet project goals.

2.F. Integration with Regional Economic and Talent Development Strategies (up to 5 points)

Scoring on this criterion will be based on the applicant's ability to demonstrate that their project is aligned with and integrated into their region's talent development and economic development strategy. Applicants may receive up to 5 points by:

• Summarizing the region's strategic vision and workforce education strategies in support of talent development and economic growth.

• Either describing how their capacity building and training solution is part of or complements existing approaches under regional talent development and economic development plans and initiatives; or describing how their project is a catalyst for bringing partners together to begin the analysis and strategic planning in their region.

• Describing any regional partnerships that are part of their capacity building and training plans and detail how the partnerships are broader and deeper in scope than the local partnerships in place for the proposed capacity building and training activity. Regional partners may include regional business leadership and organizations, such as chambers of commerce; economic development entities at the regional level; the philanthropic community; seed and venture capital organizations or individuals; investor networks; entrepreneurs; and faith and community-based organizations.

• For applicants leveraging resources, describing how the funds leveraged come from regional partners or from existing or planned talent development efforts within the region.

Category 3—Innovative Adult Learning Models for Dislocated Workers

The rating criteria listed below apply to applications focusing on either Option A or Option B. All applicants are required to use the rating criteria format when developing their proposals. Up to 100 points may be awarded to an application. 10 bonus points are available for applications focusing on Option B—Apprenticeship strategies. There are no bonus points for applications submitted under Option A.

The criteria and point values for this category are listed in the table below.

3.A. Option Selected for Grant Application | N/A
3.B. Statement of Need | 10
3.C. Partnership Composition, Capacity and Management | 25
3.D. Project Description, Strategies, Work Plan and Time Line | 30
3.E. Scope of Project and Projected Outcomes | 30
3.F. Integration with Regional Economic and Talent Development Strategies | 5
3.G. Bonus for Option B—Innovative Earn/Learn Model Using Apprenticeship | 10

3.A. Option Selected for Grant Application

This category contains two grant award options; therefore, the applicant must indicate under which option they are submitting their grant application: Option A—Innovative Adult Learning Strategies or Option B—Innovative Earn/Learn Models Using Apprenticeship.

3.B. Statement of Need (up to 10 points)

Applicants must clearly outline the need for innovative adult learning strategies in the community or communities to be served. Successful applicants will describe in detail: (1) The current unemployment and poverty rates in the targeted community(ies) of the project; (2) the layoffs/dislocations in the community(ies); and (3) the high growth high demand industries and occupations in the area, and 4) the skill requirements in the high growth and high demand community or communities to which most of the dislocated workers will be re-employed. The applicant must:

• Describe the need for this project in the communities to be served.

• Describe unemployment and poverty rates in these communities.

• Describe the layoffs/dislocations that have occurred in the past three years.

• Describe skill and job shortages in the communities to which most of the dislocated workers will be re-employed.

3.C. Partnership Composition, Capacity and Management (up to 25 points)

The applicant must demonstrate that the proposed project will be implemented by a strategic partnership. The applicant must identify the partners by organizational name and category, explain the meaningful role each partner will play in the project, and document the leveraged resources from each partner. The amount of leveraged resources will not be factored into the score for this section, rather applications will be scored on the quality and the degree to which the source and use of the funds are clearly explained and integrated into the project in support of grant outcomes. Additionally, the applicant must describe its (or the consortium of partners) capacity to manage the project, including identifying all key tasks, the hours required for the completion of such tasks, and the partner/persons responsible for completing each task.

The applicant must describe in detail their experience, capability and qualifications for administering this project. Scoring on this criterion will be based on the extent to which applicant provide evidence of the following: To be considered fully responsive, the applicant must address all of the following:

• Describe each partner's experience, how and why the partners were selected and clearly define why what they bring to the partnership will make it make it successful;

• Describe each partner's role in recruiting, selecting, training, placing and retaining workers into employment.

• Describe each partner's specific role and tasks in the project and that their commitment to sustainability is sufficient to ensure both successful completion of the project and its sustainability after the end of the grant.

• Each partner has a well-defined role in recruiting, selecting, training, placing and/or retaining workers into employment.

• Describe how the management structure and staffing of the organizations are aligned with the grant requirements, vision, and goals; and how the structure and staffing are designed to ensure responsible general management of the project.

• Identify all key tasks, the hours required for the completion of such tasks, and the partner/persons responsible for completing each task.

• Where applicable, clearly differentiate between the roles and contributions of: (1) The applicant or, the partnership/consortium (where applicable) under the grant, (2) staff, and (3) any proposed consultants or subcontractors and, providing information on each of the above, link each entity to specific objects and tasks;

• The time commitment of the proposed staff is sufficient to ensure proper direction, management, and timely completion of the project;

• Provide resumes of individuals who will manage and staff the project and describe why the background, experience, and other qualifications of the staff are sufficient to carry out their designated roles; and

• The applicant organization has significant capacity to accomplish the goals and outcomes of the project, including the ability to collect and manage data in a way that allows consistent, accurate, and expedient reporting.

Applicants must clearly address the above elements. In addition to the above, when evaluating proposals, reviewers will be using the following questions. Please make sure that these questions are addressed in the proposal.

• Does the applicant clearly indicate an understanding of each element in the specific program?

• Will the partners identified and their proposed roles meet the objectives outlined in the Solicitation?

• Do the partnership roles thoroughly identify, describe and consider each element related to partnership outlined in this category of the Solicitation?

3.D. Project Description, Strategies, Work Plan and Time Line (up to 30 points)

In this section the applicant will clearly describe the vision and blueprint for their project and how it will be developed, including providing sufficient explanation and detail about the types of activities and strategies which that will be used. Applicant must also include a clear and detailed work plan with a timeline that outlines how the work will be accomplished in a manner that is realistic and sufficient to meet the goals of objectives of the project within in the identified budget and timeframe.

Applicants must clearly address the above elements. In addition to the above, when evaluating proposals, reviewers will be using the following questions. Please make sure that these questions are addressed in the proposal.

• Does the applicant clearly indicate an understanding of each element specified in the project requirements section of this Solicitation?

• Are the proposed solutions logical, reasonable, and comprehensive? Will they meet the objectives outlined in the SGA?

• Does the proposal thoroughly identify, describe, and consider each element of the specific program?

• Is the proposal presented in a clear and concise format?

3.E. Scope of Project and Projected Outcomes (up to 30 points)

In this section, applicants will provide a plan of work that clearly conveys the scope of the project and the outcomes projected to be achieved during the life of the grant. Through its project scope and projected outcomes, the applicant must demonstrate the viability of its model in helping mature adult workers/dislocated workers learn new skills at a faster and more in-depth rate.

Scoring on this section will be based on the extent to which applicants provide the following:

• Discuss in detail how they plan to present a clear strategy to: (1) Conduct outreach strategies to businesses and industries who will employ the dislocated and/or mature adult workers and develop outreach strategies and orientation sessions to recruit dislocated workers into education and training; (2) develop outreach and education strategies to declining businesses and industries to advise them of the grant's purpose and activities and seek their participation and support;

• Describe the outcomes the applicant anticipates as a result of the project that include but are not limited to: ETA's common measures, the number of Dislocated Workers to be placed in employment, and the number of credentials to be awarded;

• The extent to which the projected outcomes are realistic and consistent with the objectives of the project;

• The potential for the proposed project to achieve the desired outcomes;

• The appropriateness of the outcomes with respect to the challenges described in the statement of needs and the proposed project activities detailed in the work plan.

• Document any leveraged resources or funding anticipated for the accomplishment of the proposed project and a description of how the funds will be used.

Please note, to be considered fully responsive and able to achieve full points in this section, each of the above must be addressed.

3.F. Integration with Regional Economic and Talent Development Strategies (up to 5 points)

Scoring on this criterion will be based on the applicant's ability to demonstrate that their project is aligned with and integrated into their region's talent development and economic development strategy. Applicants may receive up to 5 points by:

• Summarizing the region's strategic vision and workforce education strategies in support of talent development and economic growth.

• Either describing how their capacity building and training solution is part of or complements existing approaches under regional talent development and economic development plans and initiatives; or describing how their project is a catalyst for bringing partners together to begin the analysis and strategic planning in their region.

• Describing any regional partnerships that are part of their capacity building and training plans and detail how the partnerships are broader and deeper in scope than the local partnerships in place for the proposed capacity building and training activity. Regional partners may include regional business leadership and organizations, such as chambers of commerce; economic development entities at the regional level; the philanthropic community; seed and venture capital organizations or individuals; investor networks; entrepreneurs; and faith and community-based organizations.

• For applicants leveraging resources, describing how the funds leveraged come from regional partners or from existing or planned talent development efforts within the region.

3.G. Bonus Points for applicants focusing on Apprenticeship strategies (Option B) (up to 10 points)

Bonus points will be awarded for proposals that demonstrate the following:

• Capacity to graduate 100 or more apprentices (10 points) into apprenticeships/jobs.

Category 4—Preventing Dislocations of TANF Recipients Moving Into Entry Level Jobs Subject to Economic Churn

The criteria and point values for the evaluation criteria under this category are listed in the table below:

4.A. Statement of Need | 10
4.B. Partnership Composition, Capacity and Management | 25
4.C. Project Description, Strategies, Work Plan and Time Line | 30
4.D. Scope of Project and Projected Outcomes | 30
4.E. Integration with Regional Economic and Talent Development Strategies | 5

4.A. Statement of Need (up to 10 points)

Applicants must clearly outline the need for innovative adult learning strategies in the community to advance dislocated former TANF recipients up the career ladder. Successful applicants will describe in detail: (1) The pool of former TANF recipients who are unemployed or at risk for unemployment; (2) the occupations and industries of those individuals; (3) the career ladder opportunities for individuals to advance into; and (4) how the project will enhance coordination between federal, state, and local agencies in serving this target population. The applicant must: describe the need for this project in the communities to be served by indentifying:

• The pool of former TANF recipients who are unemployed or at risk for unemployment,

• The occupations and industries of those individuals;

• The career ladder opportunities for individuals to advance into; and

• How the project will enhance coordination between federal, state, and local agencies in serving this target population.

4.B. Partnership Composition, Capacity and Management (up to 25 points)

The applicant must demonstrate that the proposed project will be implemented by a strategic partnership. The applicant must identify the partners by organizational name and category, explain the meaningful role each partner will play in the project, and document the leveraged resources from each partner. The amount of leveraged resources will not be factored into the score for this section, rather applications will be scored on the quality and the degree to which the source and use of the funds are clearly explained and integrated into the project in support of grant outcomes. Additionally, the applicant must describe its (or the consortium of partners) capacity to manage the project, including identifying all key tasks, the hours required for the completion of such tasks, and the partner/persons responsible for completing each task. The applicant will also describe in detail their experience, capability and qualifications for administering this project. Scoring on this criterion will be based on the extent to which applicant provide evidence of the following:

• How and why partners were selected and what they bring to the partnership to make it successful;

• How partners will provide maximum depth and breadth to the project including providing access to poor, disadvantaged, and disconnected populations;

• How each partner's specific role and tasks in the project is sufficient to ensure both successful completion of the project and its sustainability after the end of the grant;

• Each partner has a well-defined role in recruiting, selecting, training, placing and/or retaining workers into employment;

• The management structure and staffing of the organizations are aligned with the grant requirements, vision, and goals; and how the structure and staffing are designed to assure responsible general management of the project;

• Clearly define the roles and contributions of: (1) The applicant or the partnership/consortium (where applicable), (2) staff, and (3) any proposed consultants or subcontractors and link each entity to specific objects and tasks;

• The time commitment of the proposed staff is sufficient to ensure proper direction, management, and timely completion of the project;

• Provide resumes of individuals who will manage and staff the project and describe why the background, experience, and other qualifications of the staff are sufficient to carry out their designated roles; and

• The applicant organization has significant capacity to accomplish the goals and outcomes of the project, including the ability to collect and manage data in a way that allows consistent, accurate, and expedient reporting.

Applicants must clearly address the above elements. In addition to the above, when evaluating proposals, reviewers will be using the following questions. Please make sure that these questions are addressed in the proposal.

• Does the applicant clearly indicate an understanding of each element in the specific program?

• Will the partners identified and their proposed roles meet the objectives outlines in the Solicitation?

• Do the partnership roles thoroughly identify, describe and consider each element related to partnership outlined in this category of the Solicitation?

4.C. Project Description, Strategies, Work Plan and Time Line (up to 30 points)

In this section the applicant will clearly describe the vision for their project and how it will be developed, including providing sufficient explanation and detail about the types of activities and strategies that will be used. Applicant must also include a clear and detailed work plan with a timeline that outlines how the work will be accomplished in a manner that is realistic and sufficient to meet the goals of objectives of the project within in the identified budget and timeframe.

Applicants must clearly address the above. In addition to the above, when evaluating proposals, reviewers must address the following questions. Does the applicant clearly indicate an understanding of each element specified in the project requirements section of this Solicitation?

• Are the proposed solutions logical, reasonable, and comprehensive? Will they meet the objectives outlined in the SGA?

• Does the proposal thoroughly identify, describe, and consider each element of the specific program?

• Is the proposal presented in a clear and concise format?

4.D. Scope of Project and Projected Outcomes (up to 30 points)

In this section, applicants will provide a plan of work that clearly conveys the scope of the project and the outcomes projected to be achieved during the life of the grant. Through its project scope and projected outcomes, the applicant must demonstrate the viability of its model in helping mature adult workers/dislocated workers learn new skills at a faster and more in-depth rate.

Scoring on this section will be based on the extent to which applicants provide the following:

• Presentation of a clear strategy to: (1) Conduct outreach strategies to businesses and industries who will employ the dislocated former TANF recipients; and (2) conduct outreach strategies and orientation sessions to recruit dislocated former TANF recipients into education and training with a special emphasis on community and faith-based groups that operate in targeted neighborhoods and communities;

• Comprehensive outcomes anticipated as a result of the project that include, but are not limited to: ETA's common measures, the number of Dislocated Workers to be placed in employment, and the number of credentials to be awarded;

• The extent to which the projected outcomes are realistic and consistent with the objectives of the project;

• The potential for the proposed project to achieve the desired outcomes;

• The appropriateness of the outcomes with respect to the challenges described in the statement of needs and the proposed project activities detailed in the Project Description, Strategies, Work Plan and Time Line section.

4.E. Integration With Regional Economic and Talent Development Strategies (up to 5 Points)

Scoring on this criterion will be based on the applicant's ability to demonstrate that their project is aligned with and integrated into their region's talent development and economic development strategy. Applicants may receive up to 5 points by:

• Summarizing the region's strategic vision and workforce education strategies in support of talent development and economic growth.

• Either describing how their capacity building and training solution is part of or complements existing approaches under regional talent development and economic development plans and initiatives; or describing how their project is a catalyst for bringing partners together to begin the analysis and strategic planning in their region.

• Describing any regional partnerships that are part of their capacity building and training plans and detail how the partnerships are broader and deeper in scope than the local partnerships in place for the proposed capacity building and training activity. Regional partners may include regional business leadership and organizations, such as chambers of commerce; economic development entities at the regional level; the philanthropic community; seed and venture capital organizations or individuals; investor networks; entrepreneurs; and faith and community-based organizations.

• For applicants leveraging resources, describing how the funds leveraged come from regional partners or from existing or planned talent development efforts within the region.

Review and Selection Process. Applications will be accepted after the publication of this announcement until the closing date. Applicants may submit only one application under this solicitation. Applications submitted after receipt of the initial application will not be accepted unless the initial application is withdrawn in accordance with Section E. of this part. A technical review panel will make a careful evaluation of applications against the criteria set forth in Part V of this Solicitation. These criteria are based on the policy goals, priorities, and emphases set forth in this SGA. The ranked scores will serve as the primary basis for selection of applications for funding, in conjunction with other factors such as: urban, rural, and geographic balance; the availability of funds; and which proposals are most advantageous to the Government. The panel results are advisory in nature and not binding on the Grant Officer, who may consider any information that comes to his attention. ETA may or may not award grants under each Category of this Solicitation, depending on the quality and quantity of proposals submitted. Separate panels for each category will be convened to score proposals. The Grant Officer may choose to select a lower scoring proposal from one category (or option) over a higher scoring proposal from another category or option if she determines that such a selection is more advantageous to the government. ETA may elect to award the grant(s) with or without prior discussions with the applicants. The Government will consider applications rated by the evaluation panels with a score of 80 or above to be eligible for a grant award. Applicants that score less than 80 will not be eligible for a grant award. Should a grant be awarded without discussions, the award will be based on the applicant's signature on the SF 424, which constitutes a binding offer.

Part VI. Award Administration Information

A. Award Notices

All award notifications will be posted on the ETA Web site at http://www.doleta.gov. Applicants selected for award will be contacted directly before the grant's execution. Applicants not selected for award will be notified by mail as soon as possible.

Note: Selection of an organization as a grantee does not constitute approval of the grant application as submitted. Before the actual grant is awarded, ETA may enter into negotiations about such items as programs components, staffing, and administrative systems in place to support grant implementation. If negotiations do not result in a mutually acceptable submission, the Grant Officer reserves the right to terminate the negotiation and decline to fund the application.

B. Administrative and National Policy Requirements

1. Administrative Program Requirements

All grantees will be subject to all applicable Federal laws, regulations, and the applicable OMB Circulars. The grant(s) awarded under this SGA will be subject to the following administrative standards and provisions, if applicable:

a. Workforce Investment Act—20 CFR part 667 (General Fiscal and Administrative Rules).

b. Non-Profit Organizations—OMB Circulars A-122 (Cost Principles) and 29 CFR part 95 (Administrative Requirements).

c. Educational Institutions—OMB Circulars A-21 (Cost Principles) and 29 CFR part 95 (Administrative Requirements).

d. State and Local Governments—OMB Circulars A-87 (Cost Principles) and 29 CFR part 97 (Administrative Requirements).

e. Profit Making Commercial Firms—FAR—48 CFR Part 31 (Cost Principles), and 29 CFR part 95 (Administrative Requirements).

f. All entities must comply with 29 CFR parts 93 and 98, and, where applicable, 29 CFR parts 96 and 99.

g. The following administrative standards and provisions may also be applicable:

i. 29 CFR part 2, subpart D—Equal Treatment in Department of Labor Programs for Religious Organizations, Protection of Religious Liberty of Department of Labor Social Service Providers and Beneficiaries;

ii. 29 CFR part 30—Equal Employment Opportunity in Apprenticeship and Training;

iii. 29 CFR part 31—Nondiscrimination in Federally Assisted Programs of the Department of Labor—Effectuation of Title VI of the Civil Rights Act of 1964;

iv. 29 CFR part 32—Nondiscrimination on the Basis of Handicap in Programs and Activities Receiving or Benefiting from Federal Financial Assistance;

v. 29 CFR part 33—Enforcement of Nondiscrimination on the Basis of Handicap in Programs or Activities Conducted by the Department of Labor;

vi. 29 CFR part 35—Nondiscrimination on the Basis of Age in Programs or Activities Receiving Federal Financial Assistance from the Department of Labor;

vii. 29 CFR part 36—Nondiscrimination on the Basis of Sex in Education Programs or Activities Receiving Federal Financial Assistance;

vii. 29 CFR part 37—Implementation of the Nondiscrimination and Equal Opportunity Provisions of the Workforce Investment Act of 1998. In accordance with Section 18 of the Lobbying Disclosure Act of 1995 (Pub. L. 104-65) (2 U.S.C. 1611) non-profit entities incorporated under Internal Revenue Service Code section 501(c) (4) that engage in lobbying activities are not eligible to receive Federal funds and grants.

Note: Except as specifically provided in this Notice, ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, ETA's award does not provide the justification or basis to sole source the procurement, i.e., avoid competition, unless the activity is regarded as the primary work of an official partner to the application.

C. Special Program Requirements

ETA will require that the program or project participate in an evaluation of overall performance. To measure the impact of the grant program, ETA will arrange for or conduct an independent evaluation of the outcomes and benefits of the projects. Grantees must agree to make records on participants, employers and funding available, and to provide access to program operating personnel and participants, as specified by the evaluator(s) under the direction of ETA, including after the expiration date of the grant.

D. Reporting

As a condition of participation in the grant program, applicants will be required to submit periodic reports such as the Quarterly Financial Reports, Progress Reports and Final Reports as follows:

Quarterly Financial Reports. A Quarterly Financial Status Report (ETA 9130)/OMB Approval No. 1205-0461 is required until such time as all funds have been expended and/or the grant period has expired. Quarterly financial reports are due 45 days after the end of each calendar year quarter. Grantees must use ETA's Online Electronic Reporting System.

Quarterly Progress Reports. The grantee must submit a quarterly Performance Progress Report, SF-PPR/OMB Approval Number: 0970-0443 to the designated Federal Project Officer within 45 days after the end of each calendar year quarter. Two copies are to be submitted providing a detailed account of activities undertaken during that quarter. ETA may require additional data elements to be collected and reported on either a regular basis or special request basis. Grantees must agree to meet ETA's reporting requirements. The quarterly progress report must be in narrative form and must include:

In-depth information on accomplishments including project success stories, upcoming grant activities, promising approaches and processes, and progress toward performance outcomes, among others. Also, reports should include updates on product, curricula, training development, challenges, barriers, or concerns regarding project progress. Reports should also include lessons learned in the areas of project administration and management, project implementation, partnership relationships, and other related information. ETA will provide grantees with guidance and tools to help develop the quarterly reports once the grants are awarded.

Final Report. A draft final report must be submitted no later than 60 days prior to the expiration date of the grant. This report must summarize project activities, employment outcomes, and related results of the training project, and should thoroughly document capacity building and training approaches. The final report should also include copies of all deliverables, e.g. curricula and competency models. After responding to ETA questions and comments on the draft report, three copies of the final report must be submitted no later than the grant expiration date. Grantees must agree to use a designated format specified by ETA for preparing the final report.

Part VII. Agency Contact Information

For further information regarding this SGA, please contact BJai Johnson, Grants Management Specialist, (202) 693-3296. (Please note this is not a toll-free number) Applicants should fax all technical questions to (202) 693-2879 and must specifically address the fax to the attention of BJai Johnson and should include SGA/DFA PY-07-10, a contact name, fax and phone number, and e-mail address. This announcement is being made available on the ETA Web site at http://www.doleta.gov/sga/sga.cfm, at http://www.grants.gov, as well as in the Federal Register.

Part VIII. Additional Resources of Interest to Applicants

Resources for the Applicant

ETA maintains a number of web-based resources that may be of assistance to applicants.

• America's Service Locator at www.servicelocator.org provides a directory of the nation's One-Stop Career Centers.

• Applicants are encouraged to review “Help with Solicitation for Grant Applications” at http://www.dol.gov/cfbci/sgabrochure.htm.

• For a basic understanding of the grants process and basic responsibilities of receiving Federal grant support, please see ”Guidance for Faith-Based and Community Organizations on Partnering with the Federal Government” available at http://www.whitehouse.gov/government/fbci/guidance/index.html.

Other Information

OMB Information Collection No. 1205-0458.

Expires: September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, the OMB Desk Officer for ETA, Office of Management and Budget, 200 Constitution Avenue, NW., Room N-1031, Washington, DC 20210. Please do not return the completed application to the OMB. Send it to the sponsoring agency as specified in this solicitation. This information is being collected for the purpose of awarding a grant. The information collected through this ”Solicitation for Grant Applications” will be used by the Department of Labor to ensure that grants are awarded to the applicants best suited to perform the functions of the grant. Submission of this information is required in order for the applicant to be considered for award of this grant. Unless otherwise specifically noted in this announcement, information submitted in the respondent's application is not considered to be confidential.

Signed at Washington, DC this 8th day of May, 2008.
James W. Stockton,
Grant Officer.

[FR Doc. E8-10971 Filed 5-15-08; 8:45 am]

BILLING CODE 4510-FN-P